DEPARTMENT OF HEALTH AND HUMAN SERVICES

Administration for Children and Families

Proposed Information Collection Activity; Comment Request

Proposed Projects

Title: Assets for Independence Program Performance Management and Report to Congress Data Collection Form.

OMB No.: New Collection.

Description: The Assets for Independence (AFI) program is a program authorized by Section 403 of the Community Opportunities, Accountability, and Training and Educational Services Act of 1998 (the Act). The Office of Community Services (OCS) within the U.S. Department of Health and Human Services (HHS) administers the AFI program to support innovative asset-building projects that feature Individual Development Accounts (IDAs), financial education, and related services. The Act requires AFI program grantees to submit annual reports to OCS with detailed information about project operations and participant activities. The information collected is used by OCS for performance management and to prepare mandated Reports to Congress.

The AFI Program Performance Management and Report to Congress Data Collection Form is used to collect eight categories of information, as required by the Act. Examples of the types of information collected include: Project features; the number and characteristics of project participants; amounts of participant savings and matching funds deposited in the IDAs; amounts withdrawn from the IDAs; the withdrawal purposes; and current balances in participant IDAs. The data collection form is an online form available on the OCS asset-building Web site. Grantees are provided training and technical assistance in completing the form.

Respondents: Organizations receiving funding to implement an AFI program.

Annual Burden Estimates
Instrument | Number of respondents | Number of responses per respondent | Average burden hours per response | Total burden hours
Assets for Independence Program Performance Management and Report to Congress Data Collection Form | 400 | 1 | 10 | 4,000

Estimated Total Annual Burden Hours: 4,000

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: July 18, 2007.
Robert Sargis,
Reports Clearance Officer.

[FR Doc. 07-3575 Filed 7-23-07; 8:45 am]

BILLING CODE 4184-01-M